DEPARTMENT OF COMMERCE

National Oceanic and Atmospheric Administration

RIN 0648-X036

Endangered Species; File No. 1547-02

AGENCY: National Marine Fisheries Service (NMFS), National Oceanic and Atmospheric Administration (NOAA), Commerce.

ACTION: Notice; issuance of permit modification.

SUMMARY: Notice is hereby given that the New York State Department of Environmental Conservation (Kathryn Hattala, Principal Investigator), 21 South Putt Corners Road; New Paltz, NY 12561, has been issued a modification to scientific research Permit No. 1547-02.

ADDRESSES: The modification and related documents are available for review upon written request or by appointment in the following offices:

Permits, Conservation and Education Division, Office of Protected Resources, NMFS, 1315 East-West Highway, Room 13705, Silver Spring, MD 20910; phone (301)713-2289; fax (301)427-2521; and

Northeast Region, NMFS, 55 Great Republic Drive, Gloucester, MA 01930; phone (978)281-9300; fax (978)281-9333;

FOR FURTHER INFORMATION CONTACT: Malcolm Mohead or Kate Swails, (301)713-2289.

SUPPLEMENTARY INFORMATION: On December 9, 2008, notice was published in the Federal Register (72 FR 74708) that a modification of Permit No. 1547-01, issued March 22, 2007 (72 FR 17135), had been requested by the above-named individual. The requested modification has been granted under the authority of the Endangered Species Act of 1973, as amended (ESA; 16 U.S.C. 1531 et seq.) and the regulations governing the taking, importing, and exporting of endangered and threatened species (50 CFR 222-226).

In addition to all research activities authorized under Permit No. 1547-01, this modification authorizes anesthesia and gastric lavage on up to 200 shortnose sturgeon (Acipenser brevirostrum) in the Haverstraw and Newburgh Bays of the Hudson River. The researcher also is permitted one unintentional mortality of a shortnose sturgeon during the remaining permitted period. The goal of the additional research will be to document the diet of shortnose sturgeon occupying the same habitat as Atlantic sturgeon (Acipenser oxyrhynchus oxyrhynchus) in the lower Hudson River. This modification will be valid through the expiration date of the original permit, October 31, 2011.

Issuance of this modification, as required by the ESA, was based on a finding that such permit (1) was applied for in good faith, (2) will not operate to the disadvantage of such endangered or threatened species, and (3) is consistent with the purposes and policies set forth in section 2 of the ESA.

Dated: March 24, 2009.
Tammy C. Adams,
Acting Chief, Permits, Conservation and Education Division, Office of Protected Resources, National Marine Fisheries Service.

[FR Doc. E9-6899 Filed 3-26-09; 8:45 am]

BILLING CODE 3510-22-S